DEPARTMENT OF AGRICULTURE

Forest Service

DEPARTMENT OF THE INTERIOR

Bureau of Land Management

[ID-918-00-1610-DE-UCRB]

Interior Columbia Basin Ecosystem Management Project, Northern,Intermountain, and Pacific Northwest Regions; States of Oregon, Washington, Idaho, Montana

AGENCIES: Forest Service, USDA; Bureau of Land Management, USDI.

ACTION: Corrected notice of availability of a Congressionally-required report on the Interior Columbia Basin Ecosystem Management Project (ICBEMP).

SUMMARY: The Forest Service and Bureau of Land Management published a notice of availability of a Congressionally-required report in the April 25, 2000, Federal Register (Volume 65, Number 80, page 24174). The notice specified a 120-day period for public review of, and comment on, the report. Recalculation of the final day of the comment period reveals that the date given in the April 25 notice is incorrect.

DATES: Written comments on the report will be accepted through August 26, 2000 (rather than August 23, as stated in the earlier notice). The ICBEMP interdisciplinary team will then analyze the comments and respond to them in the final EIS. The final EIS is expected to be available in late fall, 2000.

ADDRESSES: Copies of the report may be obtained from ICBEMP, 304 N. 8th Street, Room 250, Boise, ID 83702 or by calling (208) 334-1770, ext. 120. The report is also available via the internet (http://www.icbemp.gov). Comments on the report should be submitted in writing to SDEIS, P.O. Box 420, Boise, Idaho, 83701-0420. Comments may be submitted electronically at the ICBEMP's home page

(http://www.icbemp.gov), where a comment form is available. Comments, including names and street addresses of respondents, will be available for public review at the Boise office during regular business hours (8:00 a.m. to 5:00 p.m. Monday through Friday, except holidays), and may be published as part of the final environmental impact statement. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety. Comments submitted anonymously will be accepted and considered; however, those who submit anonymous comments may not have standing to appeal the decision under 36 CFR 217 (Forest Service) or standing to protest the proposed decision under 43 CFR 1610.5-2 (Bureau of Land Management).

FOR FURTHER INFORMATION CONTACT: Susan Giannettino, Project Manager, 304 North 8th St., Room 250, Boise, Idaho 83702, phone (208) 334-1770; or Geoff Middaugh, Deputy Project Manager, P.O. Box 2295, Walla Walla, Washington 99362, phone (509) 522-4033.

Dated: July 27, 2000.
Susan Giannettino,
Project Manager, U.S. Forest Service.
Geoff Middaugh,
Deputy Project Manager, Bureau of Land Management.

[FR Doc. 00-19616 Filed 8-2-00; 8:45 am]

BILLING CODE 4310-GG-M